DEPARTMENT OF ENERGY

Federal Energy Regulatory Commission

[Docket Nos. CP07-398-000; CP07-401-000]

Gulf Crossing Pipeline Company, LLC; Gulf South Pipeline Company, L.P.; Notice of Public Comment Meetings for the Gulf Crossing Project; Draft Environmental Impact Statement

November 15, 2007.

On November 2, 2007, the staff of the Federal Energy Regulatory Commission (FERC or Commission) issued a Draft Environmental Impact Statement (EIS) for the Gulf Crossing Project, proposed by Gulf Crossing Pipeline Company, LLC and Gulf South, L.P. Issuance of the Draft EIS began a 45-day public comment period which will end on December 24, 2007. In addition to accepting written comments on the Draft EIS, the Commission staff will be hosting public comment meetings in the project area to accept oral comments as listed in the following table.

Public meeting date and time | Location
Tuesday, November 27, 2007, 7 p.m | Rayville Recreation Center, 109 Benedette St., Rayville, LA 71269.
Wednesday, November 28, 2007, 7 p.m | Homer City Hall, 400 East Main St., Homer, LA 71040.
Thursday, November 29, 2007, 7 p.m | Atlanta High School Auditorium, 705 Rabbit Blvd., Atlanta, TX 75551.
Monday, December 3, 2007 , 7 p.m | Love Civic Center, 2025 S. Collegiate Dr., Paris, TX 75460.
Tuesday, December 4, 2007, 7 p.m | Stonebridge Hotel & Suites, Large Ballroom, 3605 Highway 75 South, Sherman, TX 75090.

Comment Procedure

Instructions for submitting written comments are included in the Draft EIS and the Notice of Availability that were issued on November 2, 2007. These documents can be found on the FERC Internet website as discussed below. Oral comments presented at the public comment meetings will be given the same consideration as written comments received by mail before the close of the public comment period on December 24, 2007.

As with previous public meetings on the Gulf Crossing Project, attendees will be asked to provide their name and address so that any project-related environmental information issued by the Commission may be mailed to all attendees. Additionally, those wishing to provide oral comments will be asked to put their name on a Speakers List. Depending on the number of individuals wishing to provide oral comments, speakers may be asked to limit their presentations to 5 minutes in order that all speakers may be accommodated. Transcripts of the public comment meetings will be prepared and placed into the FERC's public record.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

Kimberly D. Bose,
Secretary.

[FR Doc. E7-22804 Filed 11-21-07; 8:45 am]

BILLING CODE 6717-01-P